DEPARTMENT OF ENERGY

Federal Energy Regulatory Commission

[Docket No. EC01-35-000, et al.]

Riverside Canal Power Company, et al.; Electric Rate and Corporate Regulation Filings

December 11, 2000.

Take notice that the following filings have been made with the Commission:

1. Riverside Canal Power Company

[Docket No. EC01-35-000]

Take notice that on December 1, 2000, Riverside Canal Power Company tendered for filing pursuant to Section 203 of the Federal Power Act an application for authority to lease certain jurisdictional facilities to Southern California Edison Company for the periods of August 15, 2000 to October 30, 2000, and from June 1, 2001 through October 31, 2001.

Comment date: December 22, 2000, in accordance with Standard Paragraph E at the end of this notice.

2. PG&E National Energy Group, Inc., PG&E Enterprises and PG&E Shareholdings, Inc., On Behalf of Themselves and Their Public Utility Subsidiaries

[Docket No. EC01-41-000]

Take notice that on December 4, 2000, PG&E National Energy Group, Inc., PG&E Enterprises and PG&E Shareholdings, Inc. tendered for filing, on behalf of themselves and their public utility subsidiaries, an application under Section 203 of the Federal Power Act seeking authorization for certain changes to the upstream ownership of their public utility subsidiaries following a proposed intra-corporate reorganization.

Comment date: December 22, 2000, in accordance with Standard Paragraph E at the end of this notice.

3. NRG Energy, Inc., NRG Granite Acquisition LLC, LS Power, LLC, Granite Power Partners II, LP

[Docket No. EC01-42-000]

Take notice that on December 6, 2000, NRG Energy, Inc., NRG Granite Acquisition LLC, LS Power, LLC, and Granite Power Partners II, LP filed with the Federal Energy Regulatory Commission a joint application pursuant to Section 203 of the Federal Power Act requesting authorization for disposition of jurisdictional facilities whereby LS Power, LLC and its partners in Granite Power Partners II, LP will transfer to NRG Energy, Inc. and NRG Granite Acquisition LLC, for cash and subject to certain purchase price adjustments at closing, all of the partnership interests of LS Power, LLC and the other partners in Granite Power Partners II, LP. Granite Power Partners II, LP holds directly or indirectly interests in a portfolio of operating power generating projects and projects in construction and advanced or early-stage development. NRG Energy, Inc. and NRG Granite Acquisition LLC (collectively NRG) intend, as a result of the proposed transaction, to acquire ownership interest in approximately 1,689 MW in three facilities in operation and construction located in Denver City, Texas, Batesville, Mississippi, and Kendall County, Illinois. NRG also intends to acquire in the proposed transaction approximately 2,320 MW with respect to two additional projects expected to be completed and commercially operative as early as the summer of 2002 located in Lee County, Illinois and Pike County, Mississippi. Finally, NRG intends to acquire as a result of the proposed transaction ownership interest in four development projects, which are in early-stage development. These development projects are located in Wachula, Florida, Batesville, Mississippi, and Kendall County, Illinois.

The joint applicants are requesting, pursuant to 18 CFR 388.112, privileged and confidential treatment of the purchase agreement contained in Exhibit H to the joint application as the purchase agreement contains information of a commercially sensitive nature.

Comment date: January 5, 2001, in accordance with Standard Paragraph E at the end of this notice.

4. American Ref-Fuel Company of Essex County, BFI Energy Systems of Essex County, Inc., Allied Waste Industries, Inc., Duke/UAE Ref-Fuel LLC, Duke/UAE Essex LLC, Duke/UAE Essex II, Inc., United American Energy Corp., Duke Energy Corporation

[Docket No. EC01-40-000]

Take notice that on December 5, 2000, American Ref-Fuel Company of Essex County, BFI Energy Systems of Essex County, Inc., Allied Waste Industries, Inc., Duke/UAE Ref-Fuel LLC, Duke/UAE Essex LLC, Duke/UAE Essex II, Inc., United American Energy Corp. and Duke Energy Corporation tendered for filing a request that the Commission approve a disposition of facilities under Section 203 of the Federal Power Act through change in control over American Ref-Fuel Company of Essex County (ARC-Essex) and a change in the upstream ownership of United American Energy Corp. ARC-Essex leases and operates a biomass-fueled qualifying small power production facility larger than 30 MW.

Comment date: December 26, 2000, in accordance with Standard Paragraph E at the end of this notice.

5. American Ref-Fuel Company of Delaware Valley, L.P., BFI Energy Systems of Delaware County, Inc., Allied Waste Industries, Inc., Duke/UAE Ref-Fuel LLC, Duke/UAE Delaware Valley LLC, Duke/UAE Delaware Valley II, Inc., United American Energy Corp., Duke Energy Corporation

[Docket No. EC01-37-000]

Take notice that on December 5, 2000, American Ref-Fuel Company of Delaware Valley, L.P., BFI Energy Systems of Delaware County, Inc., Allied Waste Industries, Inc., Duke/UAE Ref-Fuel LLC, Duke/UAE Delaware Valley LLC, Duke/UAE Delaware Valley II, Inc., United American Energy Corp. and Duke Energy Corporation tendered for filing a request that the Commission approve a disposition of facilities under Section 203 of the Federal Power Act in connection with a proposed transfer of partnership interests in American Ref-Fuel Company of Delaware Valley (ARC-Delaware Valley) to subsidiaries of Duke/UAE Ref-Fuel LLC and change in the upstream ownership of United American Energy Corp.

ARC-Delaware Valley leases and operates a biomass-fueled qualifying small power production facility larger than 30 MW.

Comment date: December 26, 2000, in accordance with Standard Paragraph E at the end of this notice.

6. SEMASS Partnership, American Ref-Fuel Company of SEMASS, L.P., BFI Energy Systems of SEMASS, Inc., Browning-Ferris Industries of New York, Inc., Allied Waste Industries, Inc., Duke/UAE Ref-Fuel LLC, Duke/UAE Operations of SEMASS, LLC, Duke/UAE SEMASS LLC, Duke/UAE SEMASS II, Inc., United American Energy Corp., Duke Energy Corporation

[Docket No. EC01-39-000]

Take notice that on December 5, 2000, SEMASS Partnership American Ref-Fuel Company of SEMASS, L.P., BFI Energy Systems of SEMASS, Inc., Browning-Ferris Industries of New York, Inc., Allied Waste Industries, Inc., Duke/UAE Ref-Fuel, LLC, Duke/UAE Operations of SEMASS, LLC, Duke/UAE SEMASS LLC and Duke/UAE SEMASS II, Inc., United American Energy Corp. and Duke Energy Corporation tendered for filing a request that the Commission approve a disposition of facilities under Section 203 of the Federal Power Act in connection with a proposed transfer of partnership interests in SEMASS Partnership (SEMASS) to subsidiaries of Duke/UAE Ref-Fuel LLC and a change in the upstream ownership of United American Energy Corp. SEMASS leases and operates a biomass-fueled qualifying small power production facility larger than 30 MW in size.

Comment date: December 26, 2000, in accordance with Standard Paragraph E at the end of this notice.

7. New York Independent System Operator, Inc.

[Docket Nos. ER00-3591-000, ER00-1969-001, ER01-94-000, and ER01-180-000]

In the Commission's order issued November 8, 2000, in the above-captioned Docket Nos. ER00-3591-000 and ER00-1969-001, the Commission held that the filing raises certain issues for which a technical conference is to be convened. The orders issued in Docket Nos. ER01-94-000 and ER01-180-000 on November 21, 2000, also described issues to be discussed at this technical conference.

The conference to address the issues has been scheduled for Monday and Tuesday, January 22 and 23, 2001, at an hour and place to be designated in a subsequent notice, which will also set forth the agenda for the conference.

All interested persons and Staff are permitted to attend.

8. Central Maine Power Company

[Docket No. ER01-598-000]

Take notice that on December 6, 2000, Central Maine Power Company (CMP), tendered for filing as an initial rate schedule pursuant to Section 35.12 of the Federal Energy Regulatory Commission's (the Commission) Regulations, 18 CFR 35.12, an executed interconnection agreement (the Agreement) between CMP and Marsh Power L.P. (Marsh Power).

The Agreement is intended to replace and supersede the unexecuted interconnection agreement filed by CMP on March 31, 2000. As such, CMP is requesting that the Agreement become effective March 1, 2000.

Copies of this filing have been served upon the Commission, the Maine Public Utilities Commission, and Marsh Power.

Comment date: December 27, 2000, in accordance with Standard Paragraph E at the end of this notice.

9. Entergy Services, Inc.

[Docket No. ER01-599-000]

Take notice that on December 6, 2000, Entergy Services, Inc., on behalf of Entergy Arkansas, Inc., Entergy Gulf States, Inc., Entergy Louisiana, Inc., Entergy Mississippi, Inc., and Entergy New Orleans, Inc., (collectively, the Entergy Operating Companies) tendered for filing an unexecuted Network Operating Agreement and an unexecuted Network Integration Transmission Service Agreement between Entergy Services, Inc. and American Electric Power Service Corporation, acting as agent for Southwestern Electric Power Co.

Comment date: December 27, 2000, in accordance with Standard Paragraph E at the end of this notice.

10. Pennsylvania Electric Company

[Docket No. ER01-600-000]

Take notice that on December 6, 2000, Pennsylvania Electric Company (doing business as GPU Energy), tendered for filing a letter agreement (Agreement) between GPU Energy and Allegheny Energy Supply Company LLC (Allegheny Energy). Under the Agreement, Allegheny Energy has agreed to the operational and financial responsibilities set forth in the GPU Energy Manuals in connection with Allegheny Energy becoming the Load Serving Entity (LSE) for the Pennsylvania Borough of Summerhill.

Copies of the filing were served upon Allegheny Energy, PJM and regulators in the Commonwealth of Pennsylvania.

Comment date: December 27, 2000, in accordance with Standard Paragraph E at the end of this notice.

11. Xcel Energy Operating Companies Northern States Power Company Northern States Power Company (Wisconsin)

[Docket No. ER01-601-000]

Take notice that on December 6, 2000, Northern States Power Company and Northern States Power Company (Wisconsin) (jointly NSP), wholly-owned utility operating company subsidiaries of Xcel Energy Inc., tendered for filing a Firm Point-to-Point Transmission Service Agreement between NSP and NSP Energy Marketing. NSP proposes the Agreement be included in the Xcel Energy Operating Companies FERC Joint Open Access Transmission Tariff, Original Volume No. 2, as Service Agreement 177-NSP, pursuant to Order No. 614.

NSP requests that the Commission accept the agreement effective November 1, 2000, and requests waiver of the Commission's notice requirements in order for the agreements to be accepted for filing on the date requested.

Comment date: December 27, 2000, in accordance with Standard Paragraph E at the end of this notice.

12. Southern Company Services, Inc.

[Docket No. ER01-602-000]

Take notice that on December 6, 2000, Southern Company Services, Inc. (SCS), as agent for Alabama Power Company, Georgia Power Company, Gulf Power Company, Mississippi Power Company and Savannah Electric and Power Company (collectively, Southern Companies), tendered for its annual filing of Revised Accruals for Post-Retirement Benefits Other than Pensions.

Comment date: December 27, 2000, in accordance with Standard Paragraph E at the end of this notice.

13. American Transmission Systems, Inc.; Pennsylvania Power Company

[Docket No. ER01-604-000]

Take notice that on December 7, 2000, American Transmission Systems, Inc., tendered for filing on behalf of itself and Pennsylvania Power Company, Service Agreements for Network Integration Service and Operating Agreements for the Network Integration Transmission Service under the Pennsylvania Electric Choice Program with The New Power Company and Dominion Retail, Inc. pursuant to the American Transmission Systems, Inc., Open Access Tariff. These agreements will enable the parties to obtain Network Integration Service under the Pennsylvania Electric Choice Program in accordance with the terms of the Tariff.

The proposed effective dates under these agreements is November 30, 2000 and December 6, 2000 respectively.

Comment date: December 28, 2000, in accordance with Standard Paragraph E at the end of this notice.

14. Pacific Gas and Electric Company

[Docket No. ER01-603-000]

Take notice that on December 7, 2000, Pacific Gas and Electric Company (PG&E) tendered for filing an Interconnection Agreement Between Pacific Gas and Electric Company and the South San Joaquin Irrigation District (SSJID), dated August 23, 2000. The Interconnection Agreement (IA or Agreement) establishes the terms and conditions under which PG&E will provide electric system interconnection between PG&E and SSJID. In its filing letter, PG&E has explained that the IA in this docket is virtually identical to that pending before the Commission in Laguna Irrigation District, Docket No. EL98-46-000 and related Docket No. ER99-3145-000 and that accepted by the Commission in Fresno Irrigation District, Docket No. EL99-50-000, with the exceptions of the name of the Irrigation District, the points of interconnection specified in Appendix A, and a section pertaining to abandoned points of interconnection. PG&E has also explained that the IA contains a reservation of rights with respect to disputes arising under the Federal Power Act.

Copies of this filing have been served upon SSJID and the California Public Utilities Commission.

Comment date: December 28, 2000, in accordance with Standard Paragraph E at the end of this notice.

15. Allegheny Energy Supply Company, LLC; Monongahela Power Company; The Potomac Edison Company, West Penn Power Company (d/b/a Allegheny Power)

[Docket No. ER01-608-000]

Take notice that on December 5, 2000, Allegheny Energy Supply Company, LLC (Allegheny Energy Supply), tendered for filing revised Sheet Nos. 4, 9, 19, 28, 28A, 34, 35, 39A, 43A, 47A and 51A to its First Revised Rate Schedule FERC No. 3, filed with the Commission on November 13, 2000 at Docket No. ER01-432-000. The filing amends the Agreement to add Monongahela Power Company as a party with the other Allegheny Power companies to reflect the commencement of customer choice in the State of Ohio and updates the Appendices to the Agreement accordingly, and makes some minor and conforming changes.

Allegheny Energy Supply requests an effective date of January 1, 2001.

Copies of the filing have been provided to the Public Utilities Commission of Ohio, the Pennsylvania Public Utility Commission, the Maryland Public Service Commission, the Virginia State Corporation Commission, the West Virginia Public Service Commission and all parties of record.

Comment date: December 26, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-32260 Filed 12-18-00; 8:45 am]

BILLING CODE 6717-01-U